DEPARTMENT OF ENERGY

Federal Energy Regulatory Commission

Combined Notice of Filings #2

Take notice that the Commission received the following electric rate filings:

Docket Numbers: ER22-270-000.

Applicants: PJM Interconnection, L.L.C.

Description: § 205(d) Rate Filing: Amendment to ISA, Service Agreement No. 5479; Queue No. AC1-145 to be effective 9/5/2019.

Filed Date: 10/29/21.

Accession Number: 20211029-5244.

Comment Date: 5 p.m. ET 11/19/21.

Docket Numbers: ER22-271-000.

Applicants: PacifiCorp.

Description: Tariff Amendment: Termination of NorthernGrid Funding Agreement Concurrence to be effective 12/31/2021.

Filed Date: 10/29/21.

Accession Number: 20211029-5249.

Comment Date: 5 p.m. ET 11/19/21.

Docket Numbers: ER22-272-000.

Applicants: Gulf Power Company.

Description: § 205(d) Rate Filing: Revised Depreciation Rates, Capital Recovery Schedules, Dismantlement Accruals to be effective 1/1/2022.

Filed Date: 10/29/21.

Accession Number: 20211029-5254.

Comment Date: 5 p.m. ET 11/19/21.

Docket Numbers: ER22-273-000.

Applicants: Florida Power & Light Company.

Description: § 205(d) Rate Filing: FPL-LCEC RS 317 Revised Dep. Rates, Capital Recovery Schedules, and Dismantle to be effective 1/1/2022.

Filed Date: 10/29/21.

Accession Number: 20211029-5255.

Comment Date: 5 p.m. ET 11/19/21.

Docket Numbers: ER22-274-000.

Applicants: Idaho Power Company.

Description: § 205(d) Rate Filing: SA 430—Conditional Firm PTP with MEAI to be effective 1/1/2022.

Filed Date: 10/29/21.

Accession Number: 20211029-5261.

Comment Date: 5 p.m. ET 11/19/21.

Docket Numbers: ER22-275-000.

Applicants: PacifiCorp.

Description: § 205(d) Rate Filing: NorthernGrid Funding Agreement Concurrence 2022-2023 to be effective 1/1/2022.

Filed Date: 10/29/21.

Accession Number: 20211029-5269.

Comment Date: 5 p.m. ET 11/19/21.

Docket Numbers: ER22-276-000.

Applicants: Florida Power & Light Company.

Description: § 205(d) Rate Filing: FPL-FKEC RS 322 Revised Dep. Rates, Capital Recovery Schedules, and Dismantle to be effective 1/1/2022.

Filed Date: 10/29/21.

Accession Number: 20211029-5272.

Comment Date: 5 p.m. ET 11/19/21.

Docket Numbers: ER22-277-000.

Applicants: Arizona Public Service Company.

Description: § 205(d) Rate Filing: Rate Schedule No. 33 to be effective 12/31/2021.

Filed Date: 10/29/21.

Accession Number: 20211029-5274.

Comment Date: 5 p.m. ET 11/19/21.

Docket Numbers: ER22-278-000.

Applicants: Arizona Public Service Company.

Description: § 205(d) Rate Filing: Rate Schedule No. 217 Exhibit B Revision to be effective 12/31/2021.

Filed Date: 10/29/21.

Accession Number: 20211029-5285.

Comment Date: 5 p.m. ET 11/19/21.

Docket Numbers: ER22-279-000.

Applicants: PSEG Keys Energy Center LLC.

Description: Baseline eTariff Filing: Proposed Reactive Service Tariff Filing to be effective 12/1/2021.

Filed Date: 10/29/21.

Accession Number: 20211029-5286.

Comment Date: 5 p.m. ET 11/19/21.

Docket Numbers: ER22-280-000.

Applicants: PacifiCorp.

Description: § 205(d) Rate Filing: OATT Revised Attachment K—NorthernGrid Planning Process 2022 to be effective 1/1/2022.

Filed Date: 10/29/21.

Accession Number: 20211029-5288.

Comment Date: 5 p.m. ET 11/19/21.

Docket Numbers: ER22-281-000.

Applicants: Dry Bridge Solar 1, LLC.

Description: Baseline eTariff Filing: Market-Based Rate Application to be effective 12/29/2021.

Filed Date: 10/29/21.

Accession Number: 20211029-5290.

Comment Date: 5 p.m. ET 11/19/21.

Docket Numbers: ER22-282-000.

Applicants: El Paso Electric Company.

Description: § 205(d) Rate Filing: EPE Notice of Rate Change to OATT, Revisions to Open Access Transmission Tariff to be effective 1/1/2022.

Filed Date: 10/29/21.

Accession Number: 20211029-5294.

Comment Date: 5 p.m. ET 11/19/21.

Docket Numbers: ER22-283-000.

Applicants: Idaho Power Company.

Description: § 205(d) Rate Filing: Attachment K—NVE attachments to be effective 1/1/2022.

Filed Date: 10/29/21.

Accession Number: 20211029-5299.

Comment Date: 5 p.m. ET 11/19/21.

Docket Numbers: ER22-284-000.

Applicants: MPH AL Pierce, LLC.

Description: Baseline eTariff Filing: Filing of Market-Based Rate Application to be effective 12/29/2021.

Filed Date: 10/29/21.

Accession Number: 20211029-5306.

Comment Date: 5 p.m. ET 11/19/21.

Docket Numbers: ER22-285-000.

Applicants: PSEG Fossil Sewaren Urban Renewal LLC.

Description: Baseline eTariff Filing: Proposed Reactive Service Tariff to be effective 12/1/2021.

Filed Date: 10/29/21.

Accession Number: 20211029-5310.

Comment Date: 5 p.m. ET 11/19/21.

Docket Numbers: ER22-286-000.

Applicants: Dry Bridge Solar 2, LLC.

Description: Baseline eTariff Filing: Market-Based Rate Application to be effective 12/29/2021.

Filed Date: 10/29/21.

Accession Number: 20211029-5312.

Comment Date: 5 p.m. ET 11/19/21.

Docket Numbers: ER22-287-000.

Applicants: GridLiance West LLC.

Description: § 205(d) Rate Filing: GLW TRBAA 2022 Annual Update Filing to be effective 1/1/2022.

Filed Date: 10/29/21.

Accession Number: 20211029-5317.

Comment Date: 5 p.m. ET 11/19/21.

Docket Numbers: ER22-288-000.

Applicants: Dry Bridge Solar 3, LLC.

Description: Baseline eTariff Filing: Market-Based Rate Application to be effective 12/29/2021.

Filed Date: 10/29/21.

Accession Number: 20211029-5320.

Comment Date: 5 p.m. ET 11/19/21.

Docket Numbers: ER22-289-000.

Applicants: Dry Bridge Solar 4, LLC.

Description: Baseline eTariff Filing: Market-Based Rate Application to be effective 12/29/2021.

Filed Date: 10/29/21.

Accession Number: 20211029-5327.

Comment Date: 5 p.m. ET 11/19/21.

Docket Numbers: ER22-290-000.

Applicants: Oakland Power Company LLC.

Description: § 205(d) Rate Filing: Annual Reliability Must Run Agreement and Schedule F Informational Filings to be effective 1/1/2022.

Filed Date: 10/29/21.

Accession Number: 20211029-5328.

Comment Date: 5 p.m. ET 11/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2021.
Debbie-Anne A. Reese,
Deputy Secretary.

[FR Doc. 2021-24109 Filed 11-4-21; 8:45 am]

BILLING CODE 6717-01-P